NATIONAL SCIENCE FOUNDATION

Proposal Review Panel for Ocean Sciences; Notice of Meeting

In accordance with the Federal Advisory Committee Act (Pub., L. 92-463, as amended), the National Science Foundation announces the following meeting:

NAME: Proposal Review Panel for Ocean Sciences (#10752)—Site Visit

DATE AND TIME: February 8, 2016; 6:00 p.m.-9:00 p.m.

February 9, 2016; 7:00 a.m.-9:00 p.m.

February 10, 2016; 7:00 a.m.-4:00 p.m.

PLACE: University of Southern California, Los Angeles, CA.

TYPE OF MEETING: Partially Open.

CONTACT PERSON: David Garrison, Division of Ocean Sciences, National Science Foundation, 4201 Wilson Blvd., Arlington, VA 22230. Telephone (703) 292-7588

PURPOSE OF MEETING: Review the Center for Dark Biosphere Investigations (C-DEBI) Science and Technology Center.

AGENDA: Review the C-DEBI Research Accomplishments and Organizational Structure & Partner Involvement to Achieve Center Goals; Planning & Decision-Making; past accomplishments and future plans.

C-DEBI 2016 Site Visit Agenda

8 February: Arrivals and Briefing

6:00 p.m.-9:00 p.m.: Review Team Meets (CLOSED SESSION)

9 February: Presentations at Radisson Hotel (OPEN SESSIONS UNLESS OTHERWISE NOTED)

7:00 a.m.-8:00 a.m.: Arrival and Continental Breakfast

8:00 a.m.-9:00 a.m.: Center Overview (Jan Amend)

9:00 a.m.-10:00 a.m.: Education, Outreach, and Diversity (Stephanie Schroeder, Steve Finkel)

10:00 a.m.-10:30 a.m.: Coffee Break

10:30 a.m.-11:00 a.m.: Data Management and Integration (John Heidelberg)

11:00 a.m.-11:30 a.m.: Interactive Discussion with Review Team

11:30 a.m.-12:00 p.m.: Review Team Executive Session (CLOSED SESSION)

12:00 p.m.-1:30 p.m.: Lunch-Review Team Discussion with Students/Postdocs

1:30 p.m.-1:45 p.m.: EAB Report (Susan Humphris)

1:45 p.m.-2:00 p.m.: Field-based Research (Beth Orcutt)

2:00 p.m.-2:15 p.m.: Lab-based Research (Victoria Orphan)

2:15 p.m.-2:30 p.m.: Modeling-based Research (Andy Fisher)

2:30 p.m.-3:00 p.m.: Summary and Q&A (Julie Huber et al.)

3:00 p.m.-3:30 p.m.: Review Team Executive Session (CLOSED SESSION)

3:30 p.m.-5:00 p.m.: Poster Session

5:00 p.m.-6:00 p.m.: Interactive Discussion with Review Team

6:00 p.m.-6:30 p.m.: Review Team Executive Session (CLOSED SESSION)

6:30 p.m.: Feedback Provided to PIs

7:00 p.m.-9:00 p.m.: Review Team Working Dinner (CLOSED SESSION)

10 February: CLOSED SESSIONS

7:00 a.m.-8:00 a.m.: Arrival and Continental Breakfast

8:00 a.m.-9:00 a.m.: Review Team Meets with Institution Administrators and Investigators Only

9:00 a.m.-10:00 a.m.: C-DEBI Response to Feedback

10:00 a.m.-4:00 p.m.: Review Team Prepares Report (Working Lunch)

4:00 p.m.: Departures

REASON FOR CLOSING: During closed sessions the review will include information of a confidential or proprietary nature, including technical and financial information; and information on personnel. These matters are exempt under 5 U.S.C. 552b(c), (4) and (6) of the Government in the Sunshine Act.

Dated: January 19, 2016
Crystal Robinson,
Committee Management Officer.

[FR Doc. 2016-01271 Filed 1-21-16; 8:45 am]

BILLING CODE 7555-01-P